NATIONAL FOUNDATION ON THE ARTS AND THE HUMANITIES

Institute of Museum and Library Services

Sunshine Act Meeting of the National Museum and Library Services Board

AGENCY: Institute of Museum and Library Services (IMLS), NFAH.

ACTION: Notice of Meeting.

SUMMARY: The National Museum and Library Services Board, which advises the Director of the Institute of Museum and Library Services in awarding national awards and medals, will meet by teleconference on February 23, 2015, to review nominations for the 2015 National Medal for Museum and Library Service.

DATE AND TIME: Monday, February 23, 2015, at 1 p.m. EST.

PLACE: The meeting will be held by teleconference originating at the Institute of Museum and Library Services. 1800 M Street NW., 9th Floor, Washington, DC, 20036. Telephone: (202) 653-4676.

STATUS: Closed. The meeting will be closed pursuant to subsections (c)(4) and (c)(9) of section 552b of Title 5, United States Code because the Board will consider information that may disclose: Trade secrets and commercial or financial information obtained from a person and privileged or confidential; and information the premature disclosure of which would be likely to significantly frustrate implementation of a proposed agency action.

FOR FURTHER INFORMATION CONTACT: Katherine Maas, Program Specialist, Institute of Museum and Library Services, 1800 M Street NW., 9th Floor, Washington, DC 20036. Telephone: (202) 653-4798.

Signed: December 16, 2014.
Andrew Christopher,
Assistant General Counsel.

[FR Doc. 2014-29797 Filed 12-17-14; 11:15 am]

BILLING CODE 7036-01-P